DEPARTMENT OF ENERGY

Federal Energy Regulatory Commission

[Docket No. RP04-150-000]

Panther Interstate Pipeline Energy, L.L.C. ; Notice of Tariff Filing

February 4, 2004.

Take notice that on January 30, 2004, Panther Interstate Pipeline Energy, L.L.C. (Panther Interstate) tendered for filing as part of its FERC Gas Tariff, Original Volume No. 1, the tariff sheets listed in Appendix A to the filing, with an effective date of February 1, 2004.

Panther Interstate states that the purpose of the filing is to comply with the Commission(s Order issued on December 24, 2003 in Docket Nos. CP03-337-000 and CP03-338-000.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-259 Filed 2-11-04; 8:45 am]

BILLING CODE 6717-01-P